FEDERAL DEPOSIT INSURANCE CORPORATION

FDIC Advisory Committee of State Regulators; Notice of Meeting

AGENCY: Federal Deposit Insurance Corporation (FDIC).

ACTION: Notice of open meeting.

SUMMARY: In accordance with the Federal Advisory Committee Act, notice is hereby given of a meeting of the FDIC Advisory Committee of State Regulators. The Advisory Committee will provide advice and recommendations on a broad range of policy issues regarding the regulation of state-chartered financial institutions throughout the United States, including its territories. The meeting is open to the public. The public's means to observe this meeting of the Advisory Committee of State Regulators will be both in-person and via a Webcast live on the internet. In addition, the meeting will be recorded and subsequently made available on-demand approximately two weeks after the event. To view the live event, visit http://fdic.windrosemedia.com.

DATES: Monday, October 24, 2021, from 2 p.m. to 4 p.m.

ADDRESSES: The meeting will be held in the FDIC Board Room on the sixth floor of the FDIC building located at 550 17th Street NW, Washington, DC

FOR FURTHER INFORMATION CONTACT: Requests for further information concerning the meeting may be directed to Debra A. Decker, Committee Management Officer of the FDIC, at (202) 898-8748.

SUPPLEMENTARY INFORMATION:

Agenda: The agenda will include a discussion of a variety of current and emerging issues that have potential implications regarding the regulation and supervision of state-chartered financial institutions. The agenda is subject to change. Any changes to the agenda will be announced at the beginning of the meeting.

Type of Meeting: The meeting will be open to the public, limited only by the space available on a first-come, first-served basis. For security reasons, members of the public will be subject to security screening procedures and must present a valid photo identification to enter the building. The FDIC will provide attendees with auxiliary aids (e.g., sign language interpretation) required for this meeting. Those attendees needing such assistance should call (703) 562-6067 (Voice or TTY) at least two days before the meeting to make the necessary arrangements. Written statements may be filed with the committee before or after the meeting. This meeting of the Advisory Committee of State Regulators will be Webcast live via the internet at http://fdic.windrosemedia.com. For optimal viewing, a high-speed internet connection is recommended. To view the recording, visit http://fdic.windrosemedia.com/index.php?category=Advisory+Committee+State+Regulators. If you require a reasonable accommodation to participate, please send an email to DisabilityProgram@fdic.gov or call 703-562-2096 to make necessary arrangements.

Federal Deposit Insurance Corporation.
Dated at Washington, DC, on October 4, 2022.
James Sheesley,
Assistant Executive Secretary.

[FR Doc. 2022-21937 Filed 10-7-22; 8:45 am]

BILLING CODE 6714-01-P